FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 17, 2008.

A. Federal Reserve Bank of St. Louis (Glenda Wilson, Community Affairs Officer) 411 Locust Street, St. Louis, Missouri 63166-2034:

1. Nancy C. Wilson, Memphis, Tennessee, individually and as a member of a control group acting in concert, the group consisting of Nancy C. Wilson, The Paul Nelms Family Trust, Nancy Wilson as trustee, Jessica Wilson, Stephanie Macintosh Shy, all of Memphis, Tennessee; Charles D. Newell, Jr., Germantown, Tennessee; Michael B. Baird, Cordova, Tennessee; Jon A. Reeves, Olive Branch, Mississippi; Peter T. Hodo, West Point, Mississippi; and Johnny Ponder, Collierville, Tennessee; to acquire control of Merchants & Planters Bancshares, Inc., and thereby indirectly acquire voting shares of Merchants & Planters Bank, both of Toone, Tennessee.

B. Federal Reserve Bank of San Francisco (Tracy Basinger, Director, Regional and Community Bank Group) 101 Market Street, San Francisco, California 94105-1579:

1. Patricia Childress, Visalia, California and Carol Bates, Porterville, California, to acquire voting shares of Sierra Bancorp, and thereby indirectly acquire voting shares of Bank of The Sierra, both of Porterville, California.

Board of Governors of the Federal Reserve System, December 27, 2007.
Jennifer J. Johnson,
Secretary of the Board.

[FR Doc. E7-25471 Filed 12-31-07; 8:45 am]

BILLING CODE 6210-01-S